DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on October 29, 2007, vol. 72, no. 208, page 61201. An Advisory Circular (AC) establishes criteria for Qualified Internet Communications Providers (ICP), who provides access to aviation weather, Notice to Airmen (NOTAM), and aeronautical data via the Public Internet.

DATES: Please submit comments by February 21, 2008.

FOR FURTHER INFORMATION CONTACT: Carla Mauney at Carla.Mauney@faa.gov.

SUPPLEMENTARY INFORMATION:

Federal Aviation Administration (FAA)

Title: Information Collection for Qualified Internet Communications Providers (QICP).

Type of Request: Revision of a currently approved collection.

OMB Control Number: 2120-0672.

Forms(s): There are no forms associated with this collection.

Affected Public: An estimated 6 Respondents.

Frequency: This information is collected biennially.

Estimated Average Burden per Response: Approximately 40 hours per response.

Estimated Annual Burden Hours: An estimated 2,740 hours annually.

Abstract: An Advisory Circular (AC) establishes criteria for Qualified Internet Communications Providers (ICP), who provides access to aviation weather, Notice to Airmen (NOTAM), and aeronautical data via the Public Internet. The AC describes procedures for a provider to become and remain an FAA approved QICP, and the information collected is used to determine the provider's eligibility.

Addresses: Interested persons are invited to submit written comments on the proposed information collection to the Office of Information and Regulatory Affairs, Office of Management and Budget. Comments should be addressed to Nathan Lesser, Desk Officer, Department of Transportation/FAA, and sent via electronic mail to oria_submission@omb.eop.gov or faxed to (202) 395-6874.

Comments are invited on: Whether the proposed collection of information is necessary for the proper performance of the functions of the Department, including whether the information will have practical utility; the accuracy of the Department's estimates of burden of the proposed information collection; ways to enhance the quality, utility, and clarity of the information to be collected; and ways to minimize the burden of the collection of information on respondents, including the use of automated collection techniques or other forms of information technology.

Issued in Washington, DC, on January 14, 2008.
Carla Mauney,
FAA Information Collection Clearance Officer, IT Enterprises Business Services Division, AES-200.

[FR Doc. 08-213 Filed 1-18-08; 8:45 am]

BILLING CODE 4910-13-M